DEPARTMENT OF HOMELAND SECURITY

Z-RIN 1660-ZA02

Preparedness Directorate; Protective Action Guides for Radiological Dispersal Device (RDD) and Improvised Nuclear Device (IND) Incidents; Notice Extending the Public Comment Period

AGENCY: Preparedness Directorate, Department of Homeland Security.

ACTION: Notice extending the public comment period.

SUMMARY: On January 3, 2006, the Preparedness Directorate of the Department of Homeland Security (DHS) issued “Protective Action Guides for Radiological Dispersal Device (RDD) and Improvised Nuclear Device (IND) Incidents” at 71 FR 173 to establish guidance for planning for and responding to an RDD or IND incident. The guidance included recommended “protective action guidelines” (PAGs) to support decisions to protect the public in response to an RDD or IND incident. The Notice invited the public to comment on the guidance from the date of publication through March 6, 2006. DHS has received requests from several organizations to extend the comment period to allow for further review of the guidance and preparation of comments. Accordingly, DHS has extended the comment period for this interim rule until April 14, 2006. This Notice informs the public that the comment period has been extended until April 14, 2006.

DATES: Comments on the guidance should be submitted on or before April 14, 2006.

ADDRESSES: You may submit comments, identified by Docket Number FEMA-2004-0004, Legacy ID DHS-2004-0029, and Z-RIN 1660-ZA02, by one of the following methods:

Federal eRulemaking Portal: http://www.regulations.gov. Follow the instructions for submitting comments.

E-mail: FEMA-RULES@dhs.gov. Include the Docket Number FEMA-2004-0004, Legacy ID DHS-2004-0029, and Z-RIN 1660-ZA02 in the subject line of the message.

Fax: 202-646-4536.

Mail/Hand Delivery/Courier: Rules Docket Clerk, Office of the General Counsel, Federal Emergency Management Agency, Room 406, 500 C Street, SW., Washington, DC 20472.

Instructions: All submissions received must include the agency name and docket number or Regulatory Information Number (RIN) for this rulemaking. All comments received will be posted without change to http://www.regulations.gov, including any personal information provided.

Docket: For access to the docket to read background documents or comments received, go to http://regulations.gov. Submitted comments may also be inspected at 500 C Street, SW., Room 406, Washington, DC 20472.

FOR FURTHER INFORMATION CONTACT: Craig Conklin, Director, Chemical and Nuclear Preparedness and Protection Division, Preparedness Directorate, Department of Homeland Security, 1800 South Bell Street, Crystal City, VA 22202; 703-605-1228 (phone), 703-605-1198 (facsimile), or craig.conklin@dhs.gov (e-mail).

SUPPLEMENTARY INFORMATION: On January 3, 2006, the Preparedness Directorate of DHS issued “Protective Action Guides for Radiological Dispersal Device (RDD) and Improvised Nuclear Device (IND) Incidents” at 71 FR 173 for Federal agencies, and, as appropriate, State and local governments, emergency responders, and the general public who may find it useful in planning and responding to an RDD or IND incident. The guidance recommends “protective action guidelines” (PAGs) to support decisions about actions that may need to be taken to protect the public when responding to or recovering from an RDD or IND incident. It also outlines a process to implement the recommendations and discusses operational guidelines that may be useful in the implementation of the PAGs. The full text of the document was included in the Notice. The guidance was provided for interim use and may be revised based on comments received. The Preparedness Directorate sought input on the guidance through a notice of public comment period that extended from publication of the Notice on January 3, 2006 through March 6, 2006. A number of comments have been provided by the public to date. Several potential commenters, however, have requested additional time to prepare and submit comments. Accordingly, DHS has extended the comment period until April 14, 2006.

Dated: March 9, 2006.
George W. Foresman,
Under Secretary for Preparedness.

[FR Doc. E6-3702 Filed 3-14-06; 8:45 am]

BILLING CODE 9110-21-P